DEPARTMENT OF ENERGY

Federal Energy Regulatory Commission

[Project No. 5089-027]

Fall River Electric Cooperative, Inc.; Notice of Intent To Prepare an Environmental Assessment

On August 31, 2021, Fall River Electric Cooperative, Inc. (Fall River) filed an application for a new major license for the existing 7.45-megawatt Felt Project (FERC No. 5089). The Felt Project is located on the Teton River in Teton County, Idaho. The project occupies federal lands administered by the U.S. Bureau of Land Management.

In accordance with the Commission's regulations, on October 1, 2025, Commission staff issued a notice that the project was ready for environmental analysis (REA Notice). Based on the information in the record, including comments filed on the REA Notice, staff does not anticipate that licensing the project would constitute a major federal action significantly affecting the quality of the human environment. Therefore, staff intends to prepare an Environmental Assessment (EA) on the application to license the Felt Project.¹

¹ For tracking purposes under the National Environmental Policy Act, the unique identification number for documents relating to this environmental review is EAXX-019-20-000-1764758177.

The EA will be issued and circulated for review by all interested parties. All comments filed on the EA will be analyzed by staff and considered in the Commission's final licensing decision.

For public inquiries and assistance with making filings such as interventions, comments, or requests for rehearing, contact the Office of Public Participation at (202)502-6595 or OPP@ferc.gov.

The application will be processed according to the following schedule. Revisions to the schedule may be made as appropriate.

Milestone | Target date
Commission issues EA | August 2026.

Any questions regarding this notice may be directed to Ingrid Brofman at (202) 502-8347 or at ingrid.brofman@ferc.gov.

(Authority: 18 CFR 2.1)

Dated: December 15, 2025.
Debbie-Anne A. Reese,
Secretary.

[FR Doc. 2025-23296 Filed 12-17-25; 8:45 am]

BILLING CODE 6717-01-P